DEPARTMENT OF THE INTERIOR

Minerals Management Service

Agency Information Collection Activities: Submitted for Office of Management and Budget (OMB) Review; Comment Request

AGENCY: Minerals Management Service (MMS), Interior.

ACTION: Notice of revision and extension of an information collection (1010-0114).

SUMMARY: To comply with the Paperwork Reduction Act of 1995 (PRA), we are notifying the public that we have submitted to OMB an information collection request (ICR) to renew approval of the paperwork requirements in the regulations under 30 CFR 250, Subpart A, General, and associated forms and Notices to Lessees and Operators (NTLs). This notice also provides the public a second opportunity to comment on the paperwork burden of these regulatory requirements.

DATES: Submit written comments by October 20, 2004.

ADDRESSES: You may submit comments either by fax (202) 395-6566 or e-mail (OIRA_DOCKET@omb.eop.gov) directly to the Office of Information and Regulatory Affairs, OMB, Attention: Desk Officer for the Department of the Interior (1010-0114). Mail or hand carry a copy of your comments to the Department of the Interior; Minerals Management Service; Attention: Rules Processing Team; Mail Stop 4024; 381 Elden Street; Herndon, Virginia 20170-4817. If you wish to e-mail your comments to MMS, the address is: rules.comments@mms.gov. Reference Information Collection 1010-0114 in your subject line and mark your message for return receipt. Include your name and return address in your message text.

FOR FURTHER INFORMATION CONTACT: Cheryl Blundon, Rules Processing Team, (703) 787-1600. You may also contact Cheryl Blundon to obtain a copy, at no cost, of the regulations and the forms that require the subject collection of information.

SUPPLEMENTARY INFORMATION: Title: 30 CFR 250, Subpart A, General.

OMB Control Number: 1010-0114.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; and to preserve and maintain free enterprise competition. Section 1332(6) requires that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

Federal policy and statutes require us to recover the cost of services that confer special benefits to identifiable non-Federal recipients. Section 250.165 requires a State lessee to pay a fee when applying for a right-of-use and easement on the OCS. The Independent Offices Appropriation Act (31 U.S.C. 9701), OMB Circular A-25, and the Omnibus Appropriations Bill (Pub. L. 104-133, 110 Stat. 1321, April 26, 1996) authorize agencies to collect these fees to reimburse us for the cost to process applications or assessments. This fee is the same as that required for filing pipeline right-of-way applications as specified in § 250.1010(a).

This notice concerns the reporting and recordkeeping elements of the 30 CFR 250, Subpart A, General regulations and related forms and NTLs that clarify and provide additional guidance on some aspects of the regulations. Responses are mandatory. No questions of a “sensitive” nature are asked. MMS will protect proprietary information according to 30 CFR 250.196 (Data and information to be made available to the public), 30 CFR part 252 (OCS Oil and Gas Information Program), and the Freedom of Information Act (5 U.S.C. 552) and its implementing regulations (43 CFR 2). MMS OCS Regions use the information collected under Subpart A to ensure that operations on the OCS are carried out in a safe and pollution-free manner, do not interfere with the rights of other users on the OCS, and balance the development of OCS resources with the protection of the environment.

Frequency: The frequency is “on occasion” for most of the requirements in Subpart A. The Form MMS-132 is submitted daily during the period of emergency.

Estimated Number and Description of Respondents: Approximately 1 State and 190 Federal OCS oil and gas or sulphur lessees.

Estimated Reporting and Recordkeeping “Hour” Burden: The estimated annual “hour” burden for this information collection is a total of 22,288 burden hours. The following chart details the individual components and estimated hour burdens. In calculating the burdens, we assumed that respondents perform certain requirements in the normal course of their activities. We consider these to be usual and customary and took that into account in estimating the burdens.

Citation 30 CFR 250 Subpart A and related forms/NTLs | Reporting or recordkeeping requirement | Hour burden | Average number annual responses | Annual burden hours
104; Form MMS-1832 | Appeal orders or decisions; appeal INCs | Burden included with 30 CFR 290 (1010-0221) |  | 0
109(a); 110 | Submit welding, burning, and hot tapping plans | 2 | 164 plans | 328
115; 116 | Request determination of well producibility; submit data and information; notify MMS of test | 3 | 125 responses | 375
118; 119; 121; 124 | Apply for injection or subsurface storage of gas | 10 | 10 applications | 100
130-133; Form MMS-1832 | Submit “green” response copy of Form MMS-1832 indicating date violations (INCs) corrected | 2 | 1,245 forms (3230 actual INCs) | 2,490
| Request reconsideration from issuance of an INC | 1 | 179 requests | 179
| Request waiver of 14-day response time | ½ | 350 waivers | 175
| Notify MMS before returning to operations if shut-in | ¼ | 1,754 notices | 438
133 | Request reimbursement for food, quarters, and transportation provided to MMS representatives (OCS Lands Act specifies reimbursement; no requests received in many years; minimal burden) | 2 | 12 requests | 24
135 MMS internal process | Submit PIP under MMS implementing procedures for enforcement actions | 40 | 4 plans | 160
140 | Request various oral approvals not specifically covered elsewhere in regulatory requirements | ½ | 260 requests | 130
141 | Request approval to use new or alternative procedures, including BAST not specifically covered elsewhere in regulatory requirements | 20 | 30 requests | 600
142 | Request approval of departure from operating requirements not specifically covered elsewhere in regulatory requirements | 2 | 66 requests | 132
143; 144; 145; Form MMS-1123 | Submit designation of operator and report change of address or notice of termination; submit designation of local agent | ¼ | 1,420 forms | 355
150; 151; 152; 154(a) | Name and identify facilities, etc., with signs | 2 | 123 new/replacement signs | 246
150; 154(b) | Name and identify wells with signs | 1 | 1,008 new wells | 1,008
160; 161 | OCS lessees: Apply for new or modified right-of-use and easement to construct and maintain off-lease platforms, artificial islands, and installations and other devices; including notifications | 5 | 50 applications | 250
165 | State lessees: Apply for new or modified right-of-use easement to construct and maintain off-lease platforms, artificial islands, and installations and other devices | 5 | 1 application | 5
166 | State lessees: Furnish surety bond | Burden included with 30 CFR 256 (1010-0006) |  | 0
168; 170; 171; 172; 174; 175; 177; 180(b), (d) | Request suspension of operations or production; submit schedule of work leading to commencement * | 10 | 250 requests | 2,500
| Submit progress reports on SOO or SOP as condition of approval * | 2 | 1,070 reports | 2,140
177(a) | Conduct site-specific study; submit results. No instances requiring this study in several years—could be necessary if a situation occurred such as severe damage to a platform or structure caused by a hurricane or a vessel collision | 100 | 1 study/report | 100
177(b), (c), (d); 182; 183; 185; 194 | Various references to submitting new, revised, or modified exploration plan, development/production plan, or development operations coordination document, and related surveys/reports | Burden included with 30 CFR 250, Subpart B (1010-0049) |  | 0
180(a), (f), (g), (h), (i), (j) | Notify and submit report on various leaseholding operations and lease production activities | 1 | 1,500 reports or notices | 1,500
180(a), (b), (c) | When requested, submit production data to demonstrate production in paying quantities to maintain lease beyond primary term | 6 | 60 submissions | 360
180(e) | Request more than 180 days to resume operations | 3 | 5 requests | 15
181(d); 182(b), 183(b)(2) | Request termination of suspension and cancellation of lease (no requests in recent years for termination/cancellation of a lease; minimal burden) | 20 | 2 requests | 40
184 | Request compensation for lease cancellation mandated by the OCS Lands Act (no qualified lease cancellations in many years; minimal burden compared to benefit) | 50 | 1 request | 50
191 | Report accidents, deaths, serious injuries, fires, explosions and blowouts | 7 | 182 reports | 1,274
191(a) | Reports spills of oil | Burden included with 30 CFR 254 (1010-0091) |  | 0
192; Form MMS-132 | Daily report of evacuation statistics for natural occurrence/hurricane (Form MMS-132 in the GOMR) when circumstances warrant | 1 | 620 reports or forms | 620
193 | Report apparent violations or noncompliance | 1½ | 2 reports | 3
194 NTL exception requests | Request departures from conducting archaeological resources surveys and/or submitting reports in GOMR | 1 | 95 requests | 95
194(c) | Report archaeological discoveries (only one instance in many years; minimal burden) | 10 | 2 reports | 20
195 | Submit data/information for post-lease G&G activity and request reimbursement | Burden included with 30 CFR 251 (1010-0048) |  | 0
101-199 | General departure or alternative compliance requests not specifically covered elsewhere in Subpart A | 2 | 22 requests | 44
Subtotal—Reporting |  |  | 10,613 | 15,756
108(e) | Retain records of design and construction for life of crane, including installation records for any anti-two block safety devices; all inspection, testing, and maintenance for at least 4 years; crane operator and all rigger personnel qualifications for at least 4 years | 2 | 2,678 recordkeepers | 5,356
109(b) | Retain welding, burning, and hot tapping plan and approval for the life of the facility | ½ | 2,022 operations | 1,011
132(b)(3) | Make available all records related to inspections not specifically covered elsewhere in regulatory requirements | 1 | 165 lessees/operators | 165
Subtotal—Recordkeeping |  |  | 4,865 | 6,532
Total hour burden |  |  | 15,478 | 22,288
* Due to the California v. Norton litigation involving 36 suspended leases, operators in the Pacific Region did not respond to our inquiry because of the sensitivity of the matter.

Estimated Reporting and Recordkeeping “Non-Hour Cost” Burden: The application filing fee required in § 250.165 is the only paperwork cost burden identified for the Subpart A regulations. This filing fee is currently set at $2,350.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on May 21, 2004, we published a Federal Register notice (69 FR 29324) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by October 20, 2004.

Public Comment Policy: MMS's practice is to make comments, including names and addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz, (202) 208-7744.

Dated: July 21, 2004.
William Hauser,
Acting Chief, Engineering and Operations Division.

[FR Doc. 04-21071 Filed 9-17-04; 8:45 am]

BILLING CODE 4310-MR-P